DEPARTMENT OF THE INTERIOR

National Park Service

[NPS-WASO-NAGPRA-NPS0037712; PPWOCRADN0-PCU00RP14.R50000]

Notice of Intended Repatriation: Mount Holyoke College Art Museum, South Hadley, MA

AGENCY: National Park Service, Interior.

ACTION: Notice.

SUMMARY: In accordance with the Native American Graves Protection and Repatriation Act (NAGPRA), the Mount Holyoke College Art Museum intends to repatriate certain cultural items that meet the definition of sacred objects or objects of cultural patrimony and that have a cultural affiliation with the Indian Tribes or Native Hawaiian organizations in this notice.

DATES: Repatriation of the cultural items in this notice may occur on or after May 13, 2024.

ADDRESSES: Abigail Hoover, Associate Director of Registration and Collections, Mount Holyoke College Art Museum, Lower Lake Road, South Hadley, MA 01075, telephone (413) 538-2492, email ahoover@mtholyoke.edu.

SUPPLEMENTARY INFORMATION: This notice is published as part of the National Park Service's administrative responsibilities under NAGPRA. The determinations in this notice are the sole responsibility of the Mount Holyoke College Art Museum, and additional information on the determinations in this notice, including the results of consultation, can be found in the summary or related records. The National Park Service is not responsible for the determinations in this notice.

Abstract of Information Available

A total of 11 cultural items have been requested for repatriation. The seven sacred objects consist of catlinite pipe bowls and pipe stems. The four objects of cultural patrimony include a pair of gauntlet gloves, a jacket, a quiver, and a bow case.

Each of the 11 cultural objects in this notice are part of the Joseph Allen Skinner Museum collection, which was donated to the Trustees of Mount Holyoke College by Skinner after his death in 1946. Like many of the objects in the Skinner collection, there is no extant provenance information and it is unclear when these objects were acquired, though pictures show the display of these objects by Skinner as early as 1934.

Catlinite pipes are pipes made of catlinite, a type of mudstone that can only be found in parts of southwest Minnesota, southeastern South Dakota, and northwest Iowa, adjacent to the site of Pipestone National Monument. Catlinite has been used to make ceremonial pipes important to the religious practices of Indigenous peoples of the Great Plains for over 3,000 years. These sacred pipes have been used in prayer and religious ceremonies by the Flandreau Santee Sioux Tribe and possess deep spiritual significance.

The quiver and bow case, jacket, and gauntlet gloves in the Skinner Museum collection are imbued with ongoing historical, traditional, and/or cultural importance to the Flandreau Santee Sioux Tribe. The quiver and bow case are decorated with the spiritually significant practice of quillwork, the jacket is embroidered with beadwork using culturally significant colors and designs, and the gauntlet gloves possess floral beadwork that is particularly connected to the history and geography of the Flandreau Santee Sioux Tribe.

Based on the above definitions and a general knowledge of these objects possessing both ceremonial, spiritual, and cultural significance, the claim for repatriation to the Flandreau Santee Sioux Tribe of South Dakota will be honored.

Determinations

The Mount Holyoke College Art Museum has determined that:

• The seven sacred objects described in this notice are specific ceremonial objects needed by a traditional Native American religious leader for present-day adherents to practice traditional Native American religion, according to the Native American traditional knowledge of a lineal descendant, Indian Tribe, or Native Hawaiian organization.

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Flandreau Santee Sioux Tribe of South Dakota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 13, 2024. If competing requests for repatriation are received, the Mount Holyoke College Art Museum must determine the most appropriate requestor prior to repatriation. Requests for joint repatriation of the cultural items are considered a single request and not competing requests. The Mount Holyoke College Art Museum is responsible for sending a copy of this notice to the Indian Tribes and Native Hawaiian organizations identified in this notice and to any other consulting parties.

Authority: Native American Graves Protection and Repatriation Act, 25 U.S.C. 3004 and the implementing regulations, 43 CFR 10.9.

Dated: April 2, 2024.
Melanie O'Brien,
Manager, National NAGPRA Program.

[FR Doc. 2024-07711 Filed 4-10-24; 8:45 am]

BILLING CODE 4312-52-P